DEPARTMENT OF THE TREASURY

Office of the Secretary

31 CFR Part 10

[REG-122380-02]

RIN 1545-BA72

Regulations Governing Practice Before the Internal Revenue; Correction

AGENCY: Office of the Secretary, Treasury.

ACTION: Correction to notice of proposed rulemaking and notice of public hearing.

SUMMARY: This document contains corrections to a notice of proposed rulemaking and notice of public hearing that was published in the Federal Register on Wednesday, February 8, 2006 (71 FR 6421). These proposed regulations affect individuals who practice before the Internal Revenue Service (Circular 230). The proposed amendments modify the general standards of practice before the Internal Revenue Service.

FOR FURTHER INFORMATION CONTACT: Brinton T. Warren at (202) 622-7800 (not toll-free number).

SUPPLEMENTARY INFORMATION:

Background

The notice of proposed rulemaking and notice of public hearing (REG-122380-02) that are the subject of these corrections are under 31 CFR sections 10.1, 10.2, 10.5, 10.6, 10.7, 10.22, 10.25, 10.27, 10.29, 10.34, 10.35, 10.50, 10.51, 10.52, 10.60, 10.61, 10.62, 10.63, 10.65, 10.68, 10.70, 10.71, 10.72, 10.73, 10.76, 10.77, 10.78, 10.82, 10.90 and 10.91.

Need for Correction

As published, the notice of proposed rulemaking and notice of public hearing (REG-122380-02) contains errors that may prove to be misleading and are in need of clarification.

Correction of Publication

Accordingly, the publication of the notice of proposed rulemaking (REG-122380-02), that was the subject of FR Doc. 06-1106, is corrected as follows:

1. On page 6421, column 3, the regulation heading, line 5, (RIN 1545-AY05” is corrected to read “RIN 1545-BA72”.

2. On page 6421, column 3, under the paragraph heading “DATES”, line 3, the language, “by April 10, 2006. Outlines of topics to” is corrected to read “by April 28, 2006. Outlines of topics to”.

3. On page 6421, column 3, under the paragraph heading “DATES”, the last line, the language, “received by April 10, 2006.” is corrected to read “received by May 31, 2006.”.

4. On page 6426, column 2, in the preamble under the paragraph heading “Comments and Public Hearing”, third paragraph, line 5, the language, “comments by April 10, 2006 and an” is corrected to read “comments by April 28, 2006 and an”.

5. On page 6426, column 2, in the preamble under the paragraph heading “Comments and Public Hearing”, third paragraph the last line, the language, “April 10, 2006. A period of 10 minutes” is corrected to read “May 31, 2006. A period of 10 minutes”.

Richard S. Carro,
Senior Advisor to the General Counsel.

[FR Doc. E6-4105 Filed 3-21-06; 8:45 am]

BILLING CODE 4830-01-P